DEPARTMENT OF LABOR

Employment and Training Administration

[TA-W-57,370]

Sportrack Automotive, Port Huron, MI; Notice of Termination of Investigation

Pursuant to Section 221 of the Trade Act of 1974, an investigation was initiated on June 13, 2005 in response to petition filed by the State of Michigan, Macomb/St. Clair Workforce Development Board on behalf of workers at Sportrack Automotive, Port Huron, Michigan.

The petitioner has requested that the petition be withdrawn. Consequently, the investigation has been terminated.

Signed in Washington, DC, this 5th day of August, 2005.
Richard Church,
Certifying Officer, Division of Trade Adjustment Assistance.

[FR Doc. E5-4676 Filed 8-25-05; 8:45 am]

BILLING CODE 4510-30-P